ENVIRONMENTAL PROTECTION AGENCY

40 CFR Parts 174 and 180

[EPA-HQ-OPP-2019-0041; FRL-9996-78]

Receipt of a Pesticide Petition Filed for Residues of Pesticide Chemicals in or on Various Commodities for June 2019

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before September 3, 2019.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (RD) (7505P), main telephone number: (703) 305-7090; email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR [part 174 and/or part 180] for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerance Exemptions for Inerts (Except PIPS)

PP IN-11271. (EPA-HQ-OPP-2019-0279). Spring Trading Company (203 Dogwood Trail Magnolia, TX 77354-5201) on behalf of BASF Corporation (100 Campus Drive, Florham Park NJ 07932), requests to amend an exemption from the requirement of a tolerance for residues of propanamide, 2-hydroxy-N, N-dimethyl- (CAS Reg. No. 35123-06-9) by increasing the limitation from 20% by weight to 50% by weight when used as a pesticide inert ingredient (solvent/co-solvent) in pesticide formulations applied in or on raw agricultural commodities and to growing crops under 40 CFR 180.910 and applied in/on animals under 40 CFR 180.930. The petitioner believes no analytical method is needed because it is not required for an exemption from the requirement of a tolerance. Contact: RD.

Amended Tolerances for Non-Inerts

1. PP 9E8739. (EPA-HQ-OPP-2017-0694). The Interregional Research Project Number 4 (IR-4), Rutgers, The State University of New Jersey, 500 College Road East, Suite 201 W, Princeton, NJ 08540, proposes upon establishment of the tolerance referenced above under “New Tolerances” to remove the existing tolerance in 40 CFR part 180.672 for residues of the insecticide cyantraniliprole, 3-bromo-1-(3-chloro-2-pyridinyl)-N-[4-cyano-2-methyl-6-[((methylamino)carbonyl]phenyl]-1H-pyrazole-5-carboxamide, including its metabolites and degradates in or on Strawberry at 1.0 ppm. Contact: RD.

2. PP 9E8743. (EPA-HQ-OPP-2019-0250). IR-4, Rutgers, The State University of New Jersey, 500 College Road East, Suite 201 W, Princeton, New Jersey 08540, proposes to amend 40 CFR part 180.613(a) for residues of the insecticide flonicamid, including its metabolites and degradates, to be determined by measuring only the sum of flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on Leafy greens subgroup 4-16A, except spinach by increasing the existing tolerance from 4.0 ppm to 8.0 ppm. Upon establishment of the amended tolerance above, the petitioner requests removal of the existing tolerance for flonicamid on Leafy greens subgroup 4-16A, except spinach at 4.0 ppm. The analytical method used to quantitate above designated flonicamid residues in plants incorporates a liquid chromatograph (LC) equipped with a reverse phase column and a triple quadruple mass spectrometer (MS/MS). Contact: RD.

3. PP 9E8755. (EPA-HQ-OPP-2019-0128). IR-4, Rutgers, The State University of New Jersey, 500 College Road East, Suite 201W, Princeton, NJ 08540, proposes upon establishment of tolerances referenced in this document under “New Tolerances (for PP 9E6755)” to remove the existing tolerances in 40 CFR part 180.685 for residues of the fungicide oxathiapiprolin, 1-[4-[4-[5-(2,6-difluorophenyl)-4,5-dihydro-3-isoxazolyl]-2-thiazolyl]-1-piperidinyl]-2-[5-methyl-3-(trifluoromethyl)-1H-pyrazol-1-yl]-ethanone, in or on the following commodities: Pea, edible-podded at 1.0 ppm and Pea, succulent shelled at 0.05 ppm. Contact: RD.

New Tolerance Exemptions for Inerts (Except PIPS)

PP IN-11264. (EPA-HQ-OPP- 2019-0327). Spring Trading Company (203 Dogwood Trail Magnolia, TX 77354-5201) on behalf of Stoller Enterprises, Inc. (9090 Katy Freeway, Suite 400 Houston, TX 77024), requests to establish an exemption from the requirement of a tolerance for residues of formic acid (CAS Reg. No. 64-18-6) when used as a pesticide inert ingredient (pH adjuster) in pesticide formulations applied in or on raw agricultural commodities and to growing crops under 40 CFR 180.910 and applied in/on animals under 40 CFR 180.930. The petitioner believes no analytical method is needed because it is not required for an exemption from the requirement of a tolerance. Contact: RD.

New Tolerance Exemptions for Non-Inerts (Except PIPS)

1. PP 8F8713. (EPA-HQ-OPP-2019-0368). Acqua Concepts, Inc. (d/b/a Ag Water Chemical), 2665 S. Chestnut, Fresno, CA 93725, requests to establish an exemption from the requirement of a tolerance in 40 CFR part 180 for residues of the gopher repellent methyl mercaptan in or on all food commodities that use irrigation lines treated with methyl mercaptan. The analytical method “ASTM D 5504-12 using a gas chromatograph equipped with a sulfur chemiluminescence detector (SCD)” is available to EPA for the detection and measurement of the pesticide residues. Contact: BPPD.

2. PP 9F8735. (EPA-HQ-OPP-2019-0324). Biocontrol Technologies, S.L., Avgda. Madrid, 215-217, entresòl A, 08014 Barcelona, Spain (c/o Wagner Regulatory Associates, Inc., P.O. Box 640, Hockessin, DE 19707), requests to establish an exemption from the requirement of a tolerance in 40 CFR part 180 for residues of the fungicide and bactericide Trichoderma asperellum, strain T34 in or on all food commodities. The petitioner believes no analytical method is needed because an exemption from the requirement of a tolerance is being proposed. Contact: BPPD.

3. PP 9F8760. (EPA-HQ-OPP-2019-0367). Valent BioSciences LLC, 870 Technology Way, Libertyville, IL 60048, requests to establish a temporary exemption from the requirement of a tolerance in 40 CFR part 180 for residues of the biochemical plant regulator (fruit thinner)1-Aminocyclopropane-1-carboxylic acid (ACC) in or on apples and stone fruits. The petitioner believes no analytical method is needed because of low toxicity and minimal residues. Contact: BPPD.

New Tolerances for Non-Inerts

1. PP 8F8708. (EPA-HQ-OPP-2019-0384). E. I. du Pont de Nemours and Company, 974 Centre Road, Wilmington, Delaware 19805, requests to establish a tolerance for residues of the insecticide indoxacarb in or on corn, pop, grain at 0.02 parts per million (ppm) and corn, pop, stover at 15 ppm. The plant residue enforcement method detects and quantitates indoxacarb in various matrices including sweet corn, lettuce, tomato, broccoli, apple, grape, cottonseed, tomato, peanut and soybean commodity samples by HPLC UV. The limit of quantitation in the method allows monitoring of crops with KN128/KN127 residues at or above the levels proposed in these tolerances. Contact: RD.

2. PP 9E8739. (EPA-HQ-OPP-2017-0694). The Interregional Research Project Number 4 (IR-4), Rutgers, The State University of New Jersey, 500 College Road East, Suite 201 W, Princeton, NJ 08540, requests to establish a tolerance in 40 CFR part 180.672 for residues of the insecticide cyantraniliprole, 3-bromo-1-(3-chloro-2-pyridinyl)-N-[4-cyano-2-methyl-6-[((methylamino)carbonyl]phenyl]-1H-pyrazole-5-carboxamide, including its metabolites and degradates in or on Strawberry at 1.5 ppm. The high-pressure liquid chromatography with ESI- MS/MS detection is used to measure and evaluate cyantraniliprole. Contact: RD.

3. PP 9E8752. (EPA-HQ-OPP-2019-0281). IR-4, Rutgers, the State University of New Jersey. 500 College Road East, Princeton, NJ 08540, requests to establish a tolerance in 40 CFR part 180.446 for residues of the insecticide, clofentezine, 3,6-bis(2-chlorophenyl)-1,2,4,5-tetrazine in or on hops, dried cones at 6 parts per million (ppm). The high-performance liquid chromatography (HPLC) is available to enforce the tolerance expression. The limit of quantitation (LOQ) and limit of detection (LOD) were determined to be 0.01 ppm and 0.003 ppm, respectively. Contact: RD.

4. PP 9E8755. (EPA-HQ-OPP-2019-0128). IR-4, Rutgers, The State University of New Jersey, 500 College Road East, Suite 201W, Princeton, NJ 08540, requests to establish tolerances in 40 CFR part 180.685 for residues of the fungicide oxathiapiprolin, 1-[4-[4-[5-(2,6-difluorophenyl)-4,5-dihydro-3-isoxazolyl]-2-thiazolyl]-1-piperidinyl]-2-[5-methyl-3-(trifluoromethyl)-1H-pyrazol-1-yl]-ethanone, in or on the following commodities: Berry, low growing, subgroup 13-07G, except cranberry at 0.4 parts per million (ppm); Hop, dried cones at 5 ppm; and Tropical and subtropical, medium to large fruit, smooth, inedible peel, subgroup 24B at 0.1 ppm; individual crops of proposed crop subgroup 6-18B: Edible podded pea legume vegetable subgroup including: Chickpea, edible podded at 1 ppm; Dwarf pea, edible podded at 1 ppm; Edible podded pea at 1 ppm; Grass-pea, edible podded at 1 ppm; Green pea, edible podded at 1 ppm; Lentil, edible podded at 1 ppm; Pigeon pea, edible podded at 1 ppm; Snap pea, edible podded at 1 ppm; Snow pea, edible podded at 1 ppm; and Sugar snap pea, edible podded at 1 ppm; and individual crops of proposed crop subgroup 6-18D: Succulent shelled pea subgroup including: Chickpea, succulent shelled at 0.05 ppm; English pea, succulent shelled at 0.05 ppm; Garden pea, succulent shelled at 0.05 ppm; Green pea, succulent shelled at 0.05 ppm; Lentil, succulent shelled at 0.05 ppm; and Pigeon pea, succulent shelled at 0.05 ppm. Adequate analytical methodology, high-pressure liquid chromatography with MS/MS detection, is available to enforce the oxathiapiprolin tolerance expression. Contact: RD.

5. PP 9E8763. (EPA-HQ-OPP-2019-0388). IR-4, Rutgers, The State University of New Jersey, 500 College Road East, Suite 201 W, Princeton, New Jersey 08540, requests to establish tolerances in 40 CFR part 180.613(a) for residues of the herbicide saflufenacil, including its metabolites and degradates, determined by measuring only the sum of saflufenacil, 2-chloro-5-[3,6-dihydro-3-methyl-2,6-dioxo-4-(trifluoromethyl)-1(2H)-pyrimidinyl]-4-fluoro-N-[[methyl(1-methylethyl)amino]sulfonyl]benzamide, and its metabolites N-[2-chloro-5-(2,6-dioxo-4-(trifluoromethyl)-3,6-dihydro-1(2H)-pyrimidinyl)-4-fluorobenzoyl]-N′-isopropylsulfamide and N-[4-chloro-2-fluoro-5-({ (isopropylamino)sulfonyl amino}carbonyl)phenyl]urea, calculated as the stoichiometric equivalent of saflufenacil, in or on the following raw agricultural commodities: Caneberry subgroup 13-07A at 0.03 parts per million (ppm), Chia, seed at 1 ppm, Chia, straw at 15 ppm, Fig at 0.03 ppm, and Fig, dried at 0.05 ppm. Adequate enforcement analytical methodology (liquid chromatography/tandem mass spectrometry (LC/MS/MS) for plant and livestock commodities is available to enforce the saflufenacil tolerance expression. Contact RD.

6. PP 9F8747. (EPA-HQ-OPP-2019-0230). Valent U.S.A. LLC, P.O. Box 8025, Walnut Creek, CA 94596-8025, requests to establish a tolerance in 40 CFR part 180 for residues of the fungicide, ethaboxam ((RS)-N-(α-cyano-2-thenyl)-4-ethyl-2-(ethylamino)-1,3-thiazole-5-carboxamide) in or on beet, sugar, root at 0.01 parts per million (ppm). The analytical method uses high-performance liquid chromatography (HPLC) with tandem mass spectrometry (LC/MS-MS), with turbo-ion spray ionization in positive ion mode for ethaboxam and metabolites EEO, and negative ion mode for EEHO. A linear forced-origin calibration curve was used to quantify ethaboxam in the sample extracts. Contact: RD.

Authority: 21 U.S.C. 346a.

Dated: July 10, 2019.
Delores Barber,
Director, Information Technology and Resources Management Division, Office of Pesticide Programs.

[FR Doc. 2019-16389 Filed 8-1-19; 8:45 am]

BILLING CODE 6560-50-P